DEPARTMENT OF LABOR

Employment and Training Administration

Workforce Investment Act—Migrants and Seasonal Farmworkers Program Solicitation for Grant Applications—National Farmworker Jobs Program for Program Year 2007

AGENCY: U.S. Department of Labor, Employment and Training Administration.

ACTION: New. Initial announcement of a Program Year (PY) 2007 grant competition for operating the National Farmworker Jobs Program (NFJP) under section 167 of the Workforce Investment Act of 1998 (WIA), 29 U.S.C. 2912.

Funding Opportunity Number: SGA/DFA-PY 06-04.

Catalog of Federal Domestic Assistance (CFDA) Number: 17.264.

SUMMARY: The U.S. Department of Labor (the Department or DOL), Employment and Training Administration (ETA), Office of Workforce Investment (OWI), Division of Adult Services (DAS), announces a grant competition for operating the National Farmworker Jobs Program (NFJP), under section 167 of the Workforce Investment Act of 1998 (WIA), 29 U.S.C. 2912. All applicants for grant funds should read this notice in its entirety. Under WIA section 167 (a) the Secretary must award grants or contracts on a competitive basis to eligible entities for the purposes of carrying out the activities authorized under section 167. Under this solicitation, DAS anticipates that approximately $74,302,000, allotted among state service areas, will be available for grant awards for the NFJP.

DATES: Key Dates: The closing date for receipt of applications under this announcement is May 29, 2007. Applications must be received at the address below no later than 5 p.m., Eastern Standard Time.

ADDRESSES: Mailed applications must be directed to the U.S. Department of Labor, Employment and Training Administration, Division of Federal Assistance, Attention: James Stockton, Room N-4673, 200 Constitution Avenue, NW., Washington, DC 20210. Other submission options are discussed in Section IV of this solicitation.

SUPPLEMENTARY INFORMATION:

I. Funding Opportunity Description

The U. S. Department of Labor, Employment and Training Administration, Office of Workforce Investment (OWI), Division of Adult Services (DAS) is requesting grant applications for operating the National Farmworker Jobs Program (NFJP) in accordance with section 167 of the Workforce Investment Act of 1998 (WIA), 29 U.S.C. 2912. The NFJP is designed to serve economically disadvantaged persons who primarily depend on employment in agricultural labor performed within the United States, including Puerto Rico, and who experience chronic unemployment or underemployment. Qualifying participants are typically those persons employed on a seasonal or part-time basis in the unskilled and semi-skilled manual labor occupations in crop and animal production. Through training and other workforce development services, the program is intended to assist eligible migrants and seasonal farmworkers and their families to prepare for jobs likely to provide stable, year-round employment both within and outside agriculture.

The economic transformation brought about by advances in technology and information has ushered in the globalization era; in turn, this has caused the U.S. economy to put in place strategic and structural changes that allow businesses to adapt quickly to different business conditions. For workers, globalization has meant an increased emphasis on their ability to retool their skill requirements in response to new business needs. Agricultural employers and farmworkers face substantial challenges in adapting to the new, global economy. Increasingly, globalization has caused U.S. agricultural employers, particularly those smaller agricultural entities in rural areas, to face worker shortages and decreased markets for their products. Farmworkers and other agricultural laborers have found increasingly tighter employment markets, due in part to technological advances in harvesting a variety of crops, and the increased use of foreign agricultural workers by U.S. agricultural entities. In response to these developments, ETA has pursued, for the last five years, a strategy to assist agricultural employers and farmworkers alike by emphasizing greater access to the full spectrum of services available from locally-operated One-Stop Career Centers, not just services funded through the WIA Section 167 program (NFJP). This strategy is intended to continue the workforce system's movement towards integrated service delivery that is responsive to the demands of the labor market.

At the same time, ETA recognizes that while global competition is a national challenge, the effects are largely seen at the local/regional level, where localities and regions strive to develop innovative solutions to restart or reshape their economies. In an effort to assist such regional economies in accomplishing their goals for economic transformation, and to expand employment and advancement opportunities for American workers, ETA launched the Workforce Innovation in Regional Economic Development (WIRED) initiative in February 2006. The WIRED framework brings together all the key players in a region to leverage their collective public and private sector assets and resources in order to devise strategies that focus on infrastructure, investment, and talent development that will optimize innovation and successful regional transformation. The role of the workforce investment system under the WIRED framework is to focus on talent development strategies that provide new opportunities for American workers and catalyzes new job growth and regional economic competitiveness. Applicants are strongly encouraged to visit http://www.doleta.gov/WIRED for additional information on the WIRED initiative.

ETA believes that the NFJP can benefit from principles established under WIRED, particularly talent development strategies, and a continued commitment to an integration strategy established in previous years. Therefore, the PY 2007 SGA contains elements of both; i.e., it requires applicants responding to this SGA to design their programs around priorities that continue to support the system's progress towards fully integrated services, as well as beginning the movement of the NFJP activities into the WIRED framework.

To that end, the following priorities are required to be addressed in all applications:

Expansion of Employment Opportunities for Farmworkers Through Specific Targeting of Employers and Occupations in High Growth Industries—Building a Demand-Driven System

The PY 2007 SGA builds upon the requirement initiated in the last NFJP grants competition that applicants establish an annual goal to increase the number of employers with whom they do business, to describe the strategies that demonstrate that continued expansion, as well as to ensure that such strategies result in enhanced employment opportunities for farmworkers. Applicants are required to provide an analysis of the industries currently in the regions where farmworkers work and live, particularly high growth industries; the occupations in those industries for which farmworkers could be trained; the outreach strategies to be used to ensure that opportunities are created for farmworkers to access those occupations; and an analysis of the farmworker labor pool in the area. Applicants must describe the challenges to be addressed in preparing farmworkers for these employment opportunities, including “mapping” the educational resources available in the requested service area that can be accessed to prepare farmworkers for these and other employment opportunities.

An analysis of the economic conditions in those areas/regions; how the conditions influence the availability of jobs in high growth industries; and how those economic conditions influence the influx of new industries to the state must be included. In addition, applicants are required to identify successful micro-enterprise and other entrepreneurial opportunities and practices for migrants and seasonal farmworkers, describe the strategies to be developed and implemented to lead the NFJP towards farmworker talent development through these entrepreneurial opportunities, and discuss how employers and other key players in the state will be involved in the development of these opportunities.

A Balanced Program of Activities—Continued Progress Towards Enhanced Integration Through the One-Stop System With Improved Service Delivery and Increased Efficiencies

Integrated service delivery remains essential to a demand-driven workforce system that effectively serves businesses and individuals. The workforce system must operate as a seamless system functionally organized around service delivery rather than as an array of separate programs with separate processes. The objective is for “customers” to be seen as customers of the workforce investment system, not a particular program. This goal is particularly important when focusing on targeted populations such as migrants and seasonal farmworkers. Better integration and delivery of services within the One-Stop system, of which the NFJP is a required partner, can significantly increase the number of farmworkers who receive high quality workforce investment services that lead to improved employment and earnings. It also leads to optimum use of limited resources by all the partners in the workforce system on behalf of their farmworker customers.

Critical to this goal is an applicant's strategy for balancing the mix of activities and services to be offered to farmworkers. Related assistance services (such as emergency assistance, supportive services, English as a Second Language, or other services intended to assist farmworkers to enter training or retain their employment) are an important component in the menu of services provided to farmworkers. However, the central focus of the NFJP remains employment and training services that lead to higher skilled and higher paid employment for farmworkers, either within or outside agriculture. Part of that focus must be to provide for career guidance, lifelong learning opportunities, and other educational approaches appropriate to the population to be served, such as apprenticeships and post-secondary education, that serves the applicant's talent development strategy and helps to leverage resources from other strategic partners in the system. Applicants must describe how their intended mix of program services, including appropriate educational activities, reflects the central importance of employment and training services that leverage economic outcomes for farmworkers. In addition, applicants are required to describe the strategic planning and operational steps they will undertake to have a significant, consistent impact on services integration.

The NFJP is subject to the requirements found at WIA section 167 and the Department's regulations at 20 CFR part 669. This program is also subject to the requirements of 29 CFR parts 93 (New Restrictions on Lobbying), 96 (Audit Requirements), and 98 (Debarment, Suspension, and Drug-Free Workplace Requirements), the non-discrimination regulations implementing WIA Section 188 at 29 CFR part 37, as well as DOL's Equal Treatment regulations, found at 29 CFR part 2, Subpart D. Applicants should be familiar with these requirements and consult the WIA regulations at 20 CFR parts 660 through 671 in developing their grant proposals. Should the regulations at part 669 of WIA conflict with regulations elsewhere in 20 CFR, the regulations at part 669 will control. In addition, this program is subject to the provisions of the “Jobs for Veterans Act,” Public Law 107-288, which provides priority of service to veterans and spouses of certain veterans for the receipt of employment, training, and placement services in any job training program directly funded, in whole or in part, by the U.S. Department of Labor. In circumstances where a NFJP grant recipient must choose between two equally qualified candidates for training, one of whom is a veteran, the Jobs for Veterans Act requires that NFJP grant recipients give the veteran priority of service by admitting him or her into the program. Please note that, to obtain priority of service, a veteran must first meet the program's eligibility requirements. ETA Training and Employment Letter (TEGL) No. 5-03 (September 16, 2003) provides guidance on the scope of the Jobs for Veterans Act and its effect on current employment and training programs. TEGL No. 5-03, along with additional guidance, is available at the “Jobs for Veterans Priority of Service” Web site at http://www.doleta.gov/programs/vets.

The NFJP is subject to the common performance measures for job training and employment programs established by the Office of Management and Budget (OMB). Guidance on the common performance measures can be found in ETA's TEGL No. 17-05 (February 17, 2006), available at http://wdr.doleta.gov/directives/corr_doc.cfm?DOCN=2195.

Applications submitted in response to this SGA are required to include estimates of expected performance against these common performance measures. The common performance measures are: Entered Employment, Employment Retention, and Average Earnings. To assist applicants with their estimates, the current goals (PY 2006) for the three measures are: Entered Employment—85%; Employment Retention—80%; and Average Earnings—$7,500.

Applicants are required to describe their reporting system that allows for the data collection necessary to report results against the common measures. The NFJP began data collection for the common measures on July 1, 2005.

II. Award Information

The type of assistance instrument to be used for the NFJP is the grant. Grants awarded through this solicitation will be for a two-year period, as prescribed in WIA Section 167. Please be advised that the $74,302,000 provides funding for the NFJP for PY 2007 only (July 1, 2007 through June 30, 2008). Therefore, second year funding will be dependent on the availability of funding through the FY 2008 appropriations process.

The amount available nationally for the NFJP state service area allotments is $74,302,000. State allocations are established through a formula process, and are published in a separate Federal Register Notice. Please refer to our Web site (http://www.doleta.gov/MSFW/pdf/allocationtable.pdf) for a list of individual state allocations.

For purposes of this SGA, applications are solicited for a single NFJP operation per state, to serve the migrant and seasonal farmworkers of each state and Puerto Rico, with the following exceptions:

• Connecticut and Rhode Island are a combined state service area;

• Delaware and Maryland are a combined state service area;

• Applications for the combined state service areas mentioned above must address the two states as a single geographic area, but the proposed service delivery plan for the combined state area must show that consideration has been given to the entire population of migrant and seasonal farmworkers working or residing within the combined geographic area;

• Between 4 and 6 applications will be selected to operate the NFJP program in the agricultural counties in California; and

• No application will be accepted to provide services in Alaska due to the state's small relative share of seasonal agricultural employment.

Please be advised that in the event that no grant application is received for a state, or all applications received are considered not fundable by the Grant Officer after the panel review and scoring process, or a grant agreement is not successfully negotiated with a selected applicant, the Department will offer the Governor of that state an opportunity to submit an application, if that state has not applied (i.e., if no state agency in that state applied for a grant in this competition). If the Governor does not accept this offer within 15 days after being notified, or the Department finds the Governor's application not fundable, the Department reserves the right to designate another organization to operate the NFJP in that state. In cases where the state agency was an applicant, and all applications are found not fundable or are not successfully negotiated, the Department reserves the right to designate another organization to operate the NFJP in that state.

Note: Selection of an organization as a grantee does not constitute approval of the grant application as submitted. Before the actual grant is awarded, the Department may enter into negotiations about such items as program components, staffing and funding levels, and administrative systems in place to support grant implementation. If the negotiations do not result in a mutually acceptable submission, the Grant Officer reserves the right to terminate the negotiation and decline to fund the application.

III. Eligibility Information

Eligible Applicants—Applicants need not be a current or prior WIA Section 167 grantee to establish eligibility to be awarded a grant under this solicitation. State agencies, Local Workforce Investment Boards (LWIBs), faith-based and community organizations, institutions of higher learning, and other entities capable of delivering services on a statewide basis are all examples of organizations eligible to apply for WIA Section 167 grants. WIA Section 167(b) describes entities eligible to receive a grant as those that have:

—An understanding of the problems of eligible migrant and seasonal farmworkers, including their dependents;

—A familiarity with the geographical area to be served; and

—A demonstrated capacity to effectively administer a diversified program of workforce investment activities for eligible migrant and seasonal farmworkers.

Additionally, to be responsive to the requirements of this solicitation, applicants must demonstrate how the strategies contained in their applications will support the priorities described in Section I of this solicitation, i.e., expansion of employment opportunities for farmworkers through specific targeting of employers and occupations in high growth industries—building a demand-driven system; and a balanced program of activities—continued progress towards enhanced integration through the One-Stop system with improved service delivery and increased efficiencies.

Applicants must demonstrate how they will work with the State Workforce Investment Board (State Board) or Local Workforce Investment Boards (LWIBs), One-Stop operators in the service area(s), or other key institutions in the region to assure an integrated service delivery approach to farmworkers through the local One-Stop system and within the WIRED framework. This may include strategic planning and operational steps taken by the applicant and the State Board, LWIBs, or other partners likely to have a significant impact on services integration in the context of a regional economy.

If the applicant is a state, a LWIB or a One-Stop operator applying on behalf of the LWIB, the application must instead demonstrate how efforts have been will be undertaken to integrate services provided by all One-Stop partners. In addition, the application must also demonstrate efforts to enhance the workforce services provided to farmworkers, the expected outcomes for those services, and the “next steps” to be undertaken to continue to improve on any past integration efforts.

Cost Sharing or Matching—The WIA section 167 program does not require grantees to share costs or provide matching funds.

Other Eligibility Criteria—In accordance with 29 CFR Part 98, entities that are debarred or suspended shall be excluded from Federal financial assistance and are ineligible to receive a WIA Section 167 grant. Prior to awarding a grant, the Department will conduct a responsibility review of each potential grantee through available records. The responsibility review relies on examining available records to determine if an applicant has a satisfactory history of accounting for Federal funds and property. The responsibility review is independent of the competitive process. Applicants failing to meet the standards of the responsibility review may be disqualified for selection as grantees, irrespective of their standing in the competition. Any applicant that is not selected as a result of the responsibility review will be advised of their appeal rights. The responsibility tests that will be applied are those found in the WIA regulations (20 CFR 667.170).

Legal rules pertaining to inherently religious activities by organizations that receive Federal financial assistance—The government is generally prohibited from providing direct financial assistance for inherently religious activities. Please note that, in this context, the term direct financial assistance means financial assistance that is provided directly by a government entity or an intermediary organization, as opposed to financial assistance that an organization receives as the result of the genuine and independent private choice of a beneficiary. These grants may not be used for religious instruction, worship, prayer, proselytizing, or other inherently religious activities. Neutral, non-religious criteria that neither favor nor disfavor religion must be employed in the selection of grant recipients and sub-recipients. DOL's Equal Treatment regulations are found at 29 CFR part 2, Subpart D.

IV. Application and Submission Information

Address To Request Application Package

This SGA includes all information and forms needed to apply for this funding opportunity. If additional copies of forms are needed, they can be found at www.doleta.gov/msfw, www.doleta.gov/sga/forms.cfm, or at the Federal Register Web site, http://www.gpoaccess.gov.

Content and Form of Application Submission

An application must include two (2) separate and distinct parts: Part I—a cost proposal, and Part II—a technical proposal. Applications that fail to adhere to the instructions in this section will be deemed non-responsive and will not be considered. Part I, the Cost Proposal, must include the following items:

• A cover letter, an original plus two (2) copies of the proposal, and an ink-signed original SF 424, “Application for Federal Assistance” must be submitted. Since October 12, 2003, all applicants for federal grant and funding opportunities are required to have a Dun and Bradstreet (DUNS) number (see OMB Notice of Final Policy Issuance, 68 FR 38402; June 27, 2003). Applicants must supply their DUNS number in item #8 of the new SF-424 issued by OMB (Rev. 10/2005). The DUNS number is a nine-digit identification number that uniquely identifies business entities. Obtaining a DUNS number is easy and there is no charge. To obtain a DUNS number, access this Web site: http://www.dunandbradstreet.com. You can also call 1-866-705-5711.

• The Standard Form (SF) 424-A. In preparing the budget form, the applicant must provide a concise narrative explanation to support the request. The budget narrative should break down the budget and discuss precisely how administrative costs support the project goals.

• EEO Survey. Applicants are required to submit OMB Survey No. 1890-0014: Survey on Ensuring Equal Opportunity for Applicants, which can be found at http://www.doleta.gov/sga/forms.cfm.

Part II is the Technical Proposal, which demonstrates the applicant's capabilities to plan and implement the grant project in accordance with the provisions of this solicitation.

The Technical Proposal must be limited to 40 numbered pages, double-spaced, single-sided, in 12-point text font and one-inch margins. Any pages over the 40-page limit will not be reviewed. Letters of support and any required attachments will not be subject to the page limitations, nor will they be included in the materials provided to the panel for review of the proposal. If any attachments are included, please label each accordingly and specify the content of the attachment.

No cost data or reference to prices should be included in the Technical Proposal. Instead, applicants should provide a two-page abstract summarizing the proposed project and applicant profile information, including the applicant's name, the project title, and the funding level requested. The two-page abstract is not included in the 40 page limit. Applications that do not meet these requirements will not be considered.

Submission Dates and Times

The closing date for receipt of applications under this announcement is May 29, 2007. Applications must be received at the address below no later than 5:00 p.m. Eastern time on the closing date Applications may be submitted at the addresses indicated below by mail or electronically via www.Grants.gov. Applications sent by e-mail, telegram, or facsimile (fax) will not be accepted. Applications that do not meet the conditions set forth in this notice will not be honored. No exceptions to the mailing and delivery requirements set forth in this notice will be granted. Mailed applications must be addressed to the U.S. Department of Labor, Employment and Training Administration, Division of Federal Assistance, Attention: James Stockton, Reference SGA/DFA PY 04-06, 200 Constitution Avenue, NW., Room N-4673,Washington, DC 20210. Applicants are advised that mail delivery in the Washington, DC area may be delayed due to mail decontamination procedures. Hand-delivered proposals will be received at the above address.

As mentioned earlier, applicants may also apply online at http://www.grants.gov. Any application received after the deadline will not be accepted. For applicants submitting electronic applications via Grants.gov, it is strongly recommended that you immediately initiate and complete the “Get Started” steps to register with Grants.gov at http://www.grants.gov/GetStarted. These steps will probably take multiple days to complete, which should be factored into plans for electronic applications submission in order to avoid facing unexpected delays that could result in the rejection of an application. Also, it is recommended that applicants experiencing problems with electronic submissions submit their proposals by overnight mail until the electronic issues are resolved.

Late Applications

Any application received after the closing date and time specified for receipt at the office designated in this notice will not be considered, unless it is received before awards are made and (a) it was sent by the U.S. Postal Service registered or certified mail no later than the fifth calendar day before the date specified for receipt of applications (e.g., an application required to be received by the 20th of the month must be postmarked by the 15th of that month); or (b) it was sent via professional overnight delivery service or submitted on Grants.gov to the addressee not later than one working day prior to the date specified for receipt of applications. The term “working days” excludes weekends and Federal holidays. “Postmarked” means a printed, stamped, or otherwise placed impression that is readily identifiable, without further action, as having been supplied or affixed on the date of mailing by an employee of the U.S. Postal Service.

Intergovernmental Review

Executive Order No. 12372, “Intergovernmental Review of Federal Programs,” and the implementing regulations at 29 CFR part 17 are applicable to this program. Under these requirements, an applicant must provide a copy of the funding proposal for comment to the states that have established a consultation process under the Executive Order. Applications must be submitted to the state's Single Point of Contact (SPOC), no later than the deadline for submission of the application to the Department. For states that have not established a consultative process under E.O. 12372, but have a State Workforce Investment Board (State Board), the State Board will be the SPOC. For WIA implementation purposes, this consultative process fulfills the requirement of WIA Section 167(e) concerning consultation with Governors and Local Workforce Investment Boards (LWIB). To strengthen the implementation of E.O. 12372, the Department establishes the following timeframe for the treatment of comments from the state's SPOC on WIA Section 167 applications: (1) The SPOC must submit comments, if any, to the Department and to the applicant, no later than 30 days after the deadline date for the submission of applications; (2) the applicant's response to the SPOC comments, if any, must be submitted to the Department no later than 15 days after the postmarked date of the comments from the SPOC; (3) the Department will notify the SPOC (with copy to the applicant) of its decision regarding the SPOC comments and applicant response; and (4) the Department will implement that decision within 10 days after it has notified the SPOC.

The names and addresses of the SPOCs are listed in the Office of Management and Budget's (OMB) home page at http://www.whitehouse.gov/omb/grants/spoc.html.

Funding and Other Restrictions

Grantees are limited to 15 percent of the grant for administrative costs (see definition of administrative costs at 20 CFR part 667.220.) Administrative costs limits higher than 15 percent of the grant will not be approved.

Indirect Cost Rate

An indirect cost rate is required when an organization operates under more than one grant or other activity, whether Federally-assisted or not. Organizations must use the indirect cost rate supplied by the cognizant Federal agency. If an organization requires a new indirect cost rate or has a pending indirect cost rate, the Grant Officer will award a billing rate for 90 days until a provisional rate can be issued.

Allowable Costs

The Department shall determine what constitutes allowable costs in accordance with the following Federal cost principles, as applicable: OMB Circular A-87, State and Local Governments; OMB Circular A-21, Educational Institutions; OMB Circular A-122, Nonprofit Organizations; and 48 CFR part 31, Profit-Making Commercial Firms.

Other Submission Requirements

All other material required to be submitted is identified in the various sections of this solicitation.

V. Application Review Information Criteria

The following review criteria, totaling a maximum of 100 points, apply to all applications:

Economic Analysis of the Area: Understanding the Problems of the Eligible Migrants and Seasonal Farmworkers in the State Service Area—15 Points

To fully understand the problems encountered by migrants and seasonal farmworkers as they seek enhanced employment opportunities requires a full understanding and analysis of the economy in the state service area, its industries and the employment opportunities they present for farmworkers, and the outreach strategies necessary to secure those opportunities for farmworkers; i.e., building a demand driven system (as described in the priorities listed in Section I). Therefore, applicants must provide an analysis of the economy (agricultural and non-agricultural) in the geographic area they propose to serve, the employment outlook for the area, including the number of employers with whom they currently work, and a plan for outreach to and recruitment of new employers. A description of the expected job opportunities for migrants and seasonal farmworkers from these new employers, and how economic conditions and employer hiring needs affect the employment prospects of eligible migrant and seasonal farmworkers must also be provided.

This section must also include a detailed description of the state/regional labor market, both agricultural and non-agricultural, the economic conditions expected during the course of the program year, with emphasis on the specific economic challenges of regional agricultural economies, and the hiring implications those economic conditions pose for the employers in the region/area. In addition, this section must include a discussion of the industries that are declining in the service area/region as well as those industries targeted for growth and expansion that hold the potential for improved employment and earnings for farmworkers. Applicants should also discuss the strategies to be used in securing those opportunities for farmworkers.

Applicants must also describe the socio-economic characteristics and problems faced by eligible farmworkers, and their dependents, in the proposed service area/region. To do so, applicants must describe the implications that economic conditions and challenges in the region, the labor market outlook, and the analysis of potential high growth occupations hold for the workforce strategies proposed through this solicitation. Applicants should also include a “mapping” of the educational resources available in the area that can be assist farmworkers in accessing employment in the high-growth industries identified by the applicant. Scoring on this factor will be based on how well the applicant demonstrates its understanding of the local/regional economy and how these economic conditions help to define the challenges to be met, and the problems to overcome, in improving farmworkers' employment and earnings. Scoring will also be based on how well the proposal demonstrates the nexus between economic conditions, the characteristics of the eligible farmworkers, the educational resources, and the workforce investment needs of the population to be served. The review and evaluation of this factor will also look at the strategies developed for outreach to and recruitment of new employers that can provide improved job placement opportunities, both within and outside agriculture, for the farmworkers to be served. The proposal should clearly describe the links between the economic analysis conducted for this application and the applicant's assessment of the number of new employers to be recruited, including a description of how this will result in improved employment opportunities for farmworkers in higher-skilled, higher-paid occupations.

Strategic Partnerships and Collaboration: Familiarity With the Proposed Service Area—25 Points

To achieve the goal of integrating services for farmworkers through the One-Stop system and begin moving the NFJP towards the WIRED framework, and so ensure that integration assists in driving innovation and economic transformation in the requested service area, the applicant must have a clear understanding of the workforce investment and economic development services in the area, the network of social, educational, and health services available to help meet the diverse needs of the eligible farmworkers, and strategic partnerships in place to ensure the collaboration necessary to develop workforce solutions that connect farmworkers served through the program with employment opportunities.

This section must include a description of the agencies and strategic partners in the requested service area, including faith-based and community organizations, and the applicant's experience in collaborating with these organizations in a service delivery strategy for migrant and seasonal farmworkers. It should also include a description of the services available through local service organizations, including faith-based and community organizations, and the applicant's strategy to mobilize those organizations to provide comprehensive services to farmworkers while optimizing the use of limited NFJP resources, particularly supportive or related assistance services.

If the applicant is not a state, a LWIB, or a One-Stop operator, it must describe its prior experience, if any, and demonstrated effectiveness in working with the One-Stop system in the requested service area to provide services to farmworkers. Include a description of the applicant's collaborative efforts to date to integrate services to farmworkers across all partners in the One-Stop system, and the steps to be taken to establish a significant, consistent impact on services integration.

These steps may include, but are not limited to:

• Participation in local/state activities to develop the modification to the State Strategic Plans for Title I of the WIA and the Wagner-Peyser Act for years three and four of the current five-year planning cycle;

• Participation in activities that connect workforce investment and education with economic development planning;

• Participation in activities that help the State Board or LWIB to get more agricultural employers involved in the workforce investment system;

• Setting co-enrollment targets (between the NFJP and the WIA formula funded programs) that represent a substantial increase in services to farmworkers;

• Creating better pathways to both basic and post-secondary education, specifically with community colleges;

• Entering into and implementing agreements with the State Board or the LWIBs and One-Stop operators to significantly increase outreach to farmworkers, and to significantly increase the number of One-Stop staff who are cross-trained in NFJP/adult and dislocated workers services and requirements.

Applicants must describe their experience with developing or improving existing working relationships between partners in the One-Stop system, and how that experience will be translated into improved services integration for eligible farmworkers.

If the applicant is a state, a LWIB, or a One-Stop operator, this section should include a detailed description of the efforts to date to integrate services for farmworkers through the One-Stop system, the success of those efforts, and the operational steps to be undertaken to institutionalize services integration, instead of the information requested above.

Scoring on this factor will be based how the information requested above represents evidence of the applicant's knowledge of and working relationship with the network of workforce investment and related services in the requested service area, including the One-Stop system, and the services offered by social, educational, faith-based, community, and health organizations that are available to assist farmworkers. Scoring will also be based on the applicant's effectiveness and success with causing these organizations to direct their resources towards addressing the needs of farmworkers in the requested service area in ways that maximize the availability of limited NFJP resources while increasing the services provided to farmworkers through the One-Stop and/or other service agencies.

If the applicant is a state, a LWIB or a One-Stop operator, scoring will be based on the success of efforts to integrate services to farmworkers through the One-Stop system and its partners, or the demonstrated potential for increased services to farmworkers, instead of on the factors listed above. Any success to date in enrolling and serving farmworkers in WIA formula-funded programs must be included.

Administrative Capacity—20 Points

Applicants must demonstrate that they have adequate and sustainable management information, performance management, case management, accounting, and program and fiscal reporting systems in place to ensure program and fiscal integrity. Because the NFJP has eligibility requirements for participation in the program, the applicant must also describe the eligibility determination and verification system in place that will allow for correct eligibility determinations and minimize enrollment of ineligible participants. Additionally, all ETA-funded job training programs, including the NFJP, are implementing a data validation initiative intended to ensure that the data collected and reported to ETA is accurate. An applicant's participant and reporting system must be able to implement data validation procedures, as described in TEGL 3-03, 3-03 change 1, and 3-03 change 2 (OMB clearance issued August 31, 2004).

Applicants must describe their systems in support of program integrity, such as management information, performance management, and program participation (including individual participant records), needed for quarterly reporting and performance accountability and management, and to establish and maintain a client-centered case management system. Applicants are reminded that the NFJP is subject to OMB's common measures for job training and employment (Entered Employment, Employment Retention, and Average Earnings, described earlier in this solicitation); therefore, the data collection and reporting system, as well as its link to performance management and accountability, must be described in detail. Fiscal integrity is a critical component of operating any federally-funded program. The applicant must describe a system that is sufficient to prepare financial reports and to trace funds to adequate levels of expenditures to ensure lawful spending. The system must have the capacity to track spending by program, to ensure that, for those organizations with funding from more than one federal program, expenditures are posted against the appropriate program. The system must also be able to track program income generated through activities funded by the NFJP funding, and show the link between program income and those additional participants and/or services funded through program income.

Applicants must also describe their capacity to manage the supportive services, also described as related assistance services, and to account for expenditures related to these services.

The NFJP is required to use electronic reporting via the Internet. Applicants must describe their capacity to provide the equipment, access, and staff qualified to perform on-line reporting. The applicant must also demonstrate its capacity to provide case management as well as the electronic tools to be utilized (Personal Computer, software, Internet access, and e-mail accounts) to implement a client-centered, case management system.

Scoring on this factor will be based on evidence of effective systems for performance accountability and management, program and fiscal reporting, case management, eligibility determination and verification, as well as the ability to report electronically through the Internet.

Integrated Service Delivery Strategies: Proposed Plan of Services—40 Points

As mentioned in the priorities listed in Section I, integrated service delivery remains essential to a demand-driven workforce system that effectively serves businesses and individuals; it can significantly increase the number of farmworkers who receive quality services that lead to improved employment and earnings. Critical to this element is a strategy for balancing the mix of services and activities offered to farmworkers. A balanced mix emphasizes employment and training activities, recognizes the importance of related assistance services, and includes service delivery strategies that focus on appropriate educational approaches, such as remediation, career guidance, GED leading to apprenticeships, and other approaches appropriate to the population to be served.

Therefore, the proposed service plan should describe in detail the major program activities planned for the state service area in PY 2007, given the mix of services mentioned above. The proposal should include a description of how these program activities will support the priorities identified in Section I of this solicitation: Expansion of employment opportunities for farmworkers through specific targeting of employers and occupations in high growth industries—building a demand-driven system; and a balanced program of activities—continued progress towards enhanced integration through the One-Stop system with improved service delivery and increased efficiencies.

The proposal should describe the applicant's vision, strategy, goals and objectives that guide the proposed plan of service and the results expected from implementing the proposed plan. It should include a description of how this service plan will strengthen migrant and seasonal farmworkers' ability to obtain or retain employment, to access appropriate educational opportunities (remediation, career guidance, apprenticeships), or access employment opportunities in high-growth occupations. It should also describe any micro-enterprise or other entrepreneurial activities to be pursued, if appropriate; and activities to upgrade farmworkers' employment opportunities within agriculture, if they so choose. The services described should be directly connected to the basic and occupational skills sets needed for the talent development of farmworkers in the area's economy. The plan should provide clear evidence that the service plan expands the workforce and related services available to farmworkers due to a closer integration and specific collaboration between the NFJP service strategy and the local workforce investment service plan, new or stronger partnerships with faith-based and community organizations, and new partnerships with key entities involved in regional economic transformation, as appropriate. Applicants are strongly encouraged to include service delivery strategies that will provide farmworkers with career pathways both within and outside agricultural employment; i.e., remediation leading to post secondary education or credentialing (if appropriate); high school diplomas or GED, leading to apprenticeship opportunities, if applicable; and/or industry-accepted certifications.

Applicants should describe their strategy for providing related assistance services to farmworkers (see definition at 20 CFR 669.110). Applicants are reminded that the NFJP is intended to be a job training program, whose purpose is to assist eligible migrant and seasonal farmworkers and their families prepare for jobs that provide stable, year-round employment, both within and outside agriculture. Related assistance services include supportive services that assist eligible migrant and seasonal farmworkers to retain employment or enter into or remain in training. While no limitation is placed on the numbers of participants receiving related assistance services only, applicants are expected to describe in full how they will continue to increase the number of participants receiving employment and training services.

If the applicant is a state, a LWIB or a One-Stop operator, the application must demonstrate how the service strategy achieves integration of services by all partners in the One-Stop system, and how this integration results in enhanced and improved workforce investment services to farmworkers, within a state service area and/or regional economy.

The program plan of service section must include descriptions of:

• The state service area covered by the plan. If the proposal is for less than the entire agricultural area of the state (as could be the case in California, for example) the plan must identify the geographic area where services will be provided and an explanation supporting the geographic area selected.

• An estimate of the number of migrant and seasonal farmworker, broken out by category, to be provided training services. An estimate should be included of the number of migrant and seasonal farmworkers, broken out by category, who will be provided related assistance services only.

• The strategies for conducting participant outreach and recruitment, including the involvement, where applicable, of faith-based and community organizations in those strategies, as well as other One-Stop partner programs.

• The proposed client-centered case management system, including the staff's responsibilities for managing the system, the staff development opportunities available to enhance their skills in case management, and the capacity to increase community resources available for case management through joint alliances and/or endeavors, such as through faith-based or community organizations, or through the One-Stop system.

• The core services to be delivered, and how those services will be delivered in collaboration with the One-Stop system. Include a description of the eligibility determination system and how the applicant determines service priorities.

• The intensive services proposed, the strategy for providing them, and the collaboration with the One-Stop system in the provision of these services (see definition of intensive services at WIA Section 134(d)(3) and 20 CFR 669.370). Please note that the NFJP regulations at 20 CFR 669.380 provide that the delivery of intensive and training services should flow from an objective assessment process that includes an Individual Employment Plan. The proposal must describe the strategy for doing this, as well as the organization's capacity to appropriately address an individual's needs as identified through the objective assessment. Intensive services are described in WIA 134(d)(3)(C) and 20 CFR 669.370.

• If work experience is to be offered as an activity, the process by which the determination to use it is based, and the strategy for measuring its success as a program activity. (See 20 CFR 669.370 (b)(i) and (b)(ii)(B) for additional information on work experience activities.)

• The training services to be provided to eligible farmworkers, including the process used to determine a participant's enrollment in training services, and the process used when the determination is made not to place a participant in training. (See 20 CFR 669.410 for a description of, training services.) In addition, the proposal should describe the strategy to be used to promote co-enrollment of participants in the WIA formula funded programs.

• The related assistance services, including supportive services, needed by migrant and seasonal farmworkers and their dependents, and the strategy for providing those services, including the agencies or organizations with whom the applicant will collaborate and/or coordinate these services. The proposal should provide separate descriptions for those farmworkers receiving supportive services and also intensive and/or training services, and those farmworkers for whom related assistance services will be the only services provided. It should also include a description of the process used to determine the need for related assistance services, the differences in the determination process, if any, among migrant and seasonal farmworker groups, and the rationale for the differences.

• The proposal should describe the applicant's strategy for balancing related assistance services with the need to increase employment and training services.

• The proposal should describe the educational approaches to be used, including remediation, GED attainment, GED leading to apprenticeships, career guidance and other pathways leading to credentialing or post secondary opportunities, if applicable, to assist the participant in obtaining the occupational skills that lead to employment in high-growth occupations or to higher paying employment within the agricultural industry.

• A description of the strategies to be used to achieve performance results with respect to job placement, employment retention, and average earnings (i.e., the common measures).

• A description of the strategies to address how job placement opportunities will be pursued among the employers in the service area, including how job placement opportunities from new employers will be secured, as well as opportunities in high growth industries/occupations.

• The process by which the applicant will conduct follow-up services for those who are placed in jobs or engaged in entrepreneurial activities.

Scoring on this factor will be based on evidence that the applicant has used the information provided in the first three rating criteria, described above, to develop a service strategy and a plan of service that leads to measurable impact on improving the employment and earnings of farmworkers. It will also be based on evidence that the plan of service contains a balanced program of activities, and a rationale for the proposed services, as well as evidence that the service plan encompasses resources and program activities available from other One-Stop partners and/or the local services agencies, including faith-based and community organizations.

The evaluation of this factor will also assess whether the service strategy and service plan presented by the applicant reflect a knowledge of the local workforce investment plan and proposes services that complement that plan in a way that increases employment opportunities for farmworkers.

If the applicant is a state, a LWIB or a One-Stop operator, the evaluation of this factor will also assess opportunities for integrating services through the One-Stop system and its partner programs to improve the workforce and related services received by farmworkers. Special emphasis will be placed on the success achieved in enrolling and serving farmworkers through WIA formula-funded programs.

Review and Selection Process

A review panel will rate each proposal according to the criteria scoring factors specified in this solicitation. Panel reviews are critical to the selection of grantees but are advisory in nature, and their recommendations are not binding on the Grant Officer. The Grant Officer, in selecting potential grantees, may consider any information that comes to his or her attention, including past performance under a previous grant and information from the program office, and will make the final selection determination based on what best meets the needs of eligible migrants and seasonal farmworkers in the area to be served. The Grant Officer may consider factors such as panel findings, geographic presence of the applicants, proposed areas to be served, and other pertinent factors.

The Grant Officer's determination for award under this SGA is final. The Grant Officer may elect to make awards either with or without discussions and negotiations with the applicant. In situations without discussions, an award will be based on the applicant's signature on the SF-424, which constitutes a binding offer.

Applications rated by the review panel with a score of less than 80 points will not be recommended for an award. In areas where there are no applications with a score of 80 or above, the process for selecting another potential grantee, described in Section II, will be implemented.

VI. Award Administration Information

Award Notices

The Grant Officer will notify applicants, in writing, if they are selected as potential grantees. The notification will invite each potential grantee to negotiate the final terms and conditions of the grant as applicable, will establish a reasonable time and place for the negotiations, and will indicate the specific state service area and amount of funds to be allocated under the grant. FY 2007 funds will be awarded for the period July 1, 2007 to June 30, 2008.

An applicant that is not selected as a potential grantee or whose application has been denied in part or in whole by the Department will be notified in writing by the Grant Officer and advised of all appeal rights. The notification will outline the deficiencies as noted by the review panel and offer an opportunity for a debriefing. The written notification by the Grant Officer constitutes a final decision, for the purposes of 20 CFR 667.800.

Administrative and National Policy Requirements

There are no additional administrative or national policy requirements.

Reporting

An applicant's proposal becomes the annual grant plan after a grant award is made, with additional information as appropriate and requested by the funding agency. WIA Section 167 grantees will be required to submit reports on financial expenditures, program participation, and participant outcomes on a quarterly basis. Grantees will also have to submit planned financial expenditures and planned program participation forms at the beginning of the program year. Grantees must report electronically, but may be asked to submit reports in paper form on occasion. As reflected earlier in this solicitation, this program is subject to the common measures of performance. Grantees will be required to provide the data necessary to collect information for reporting performance results against the common measures.

VII. Agency Contacts

Questions related to this solicitation may be directed to Ms. Mamie Williams, Grants Management Specialist, phone 202-693-3341; fax: 202-693-2879 (this is not a toll free number). Please include a contact name, fax and telephone number.

This announcement is also being made available on the ETA Web site at http://doleta.gov/sga/sga.cfm and http://www.grants.gov.

Signed at Washington, DC this 16th day of April, 2007.
James W. Stockton,
Grant Officer.

[FR Doc. E7-7497 Filed 4-19-07; 8:45 am]

BILLING CODE 4510-FN-P